DEPARTMENT OF DEFENSE

Department of the Army; Corps of Engineers

Intent To Prepare a Draft Environmental Impact Statement (DEIS) for the Comprehensive Analysis of the Kissimmee Chain of Lakes Drawdown and Habitat Enhancement Project, Kissimmee, FL

AGENCY: U.S. Army Corps of Engineers, DoD.

ACTION: Notice of Intent.

SUMMARY: The Jacksonville District, U.S. Army Corps of Engineers (Corps), the Florida Fish and Wildlife Conservation Commission, and the South Florida Water Management District intend to prepare a Draft Environmental Impact Statement (DEIS) on the feasibility of implementing a plan for extreme drawdowns and habitat enhancement activities for the Kissimmee Chain of Lakes, Florida.

FOR FURTHER INFORMATION CONTACT: Questions about the proposed action and DEIS may be addressed to Ms. Heather Carolan or Ms. Lizabeth R. Manners, U.S. Army Engineer District, P.O. Box 4970, Jacksonville, Florida 32232-0019; Telephone 904-232-2016/3923.

SUPPLEMENTARY INFORMATION:

1. Proposed Project

a. The Kissimmee Chain of Lakes is located in Central Florida. These lakes have previously undergone seven extreme drawdowns; Lake Tohopekaliga in 1971, 1979 and 1987; Lake Kissimmee in 1977 and 1996; East Lake Tohopekaliga in 1990 and Lake Alligator in 2000. The drawdowns were designed to improve aquatic habitat that had been negatively impacted by flood control practices and nutrient enrichment. Following refill of the lakes the number of fish food organisms, sport fish and forage fish increased; new desirable aquatic vegetation communities became established; and organic sediments decreased in the lakes.

b. The purpose of this project is to restore the environmental ecosystem of the lakes, which will provide habitat for fisheries, birds and other wildlife. Beneficial effects associated with the drawdown plan include bottom substrate improvements as organic build-up is reduced. This will lead to an increase in diversity and density of desirable vegetation. The drawdown will also allow the control of nuisance aquatic plants, such as hydrilla, water hyacinth, cattails, alligator weed, smartweed and pickerelweed, which proliferate under the unnatural static lake level conditions. In addition, the water quality of the lakes will be enhanced by the nutrient uptake and filtration abilities by the recruitment of native plant species. Restoring littoral habitat, which favors bass, will increase native fish species.

c. Drawdown and in-lake habitat enhancement efforts in the Kissimmee Chain of Lakes should be conducted on a regular basis to mimic natural processes that would benefit the natural resources of these lakes. Enhancement activities may include muck removal, burning, discing and herbicide application to reduce dense vegetation, tussock formation and organic build-up on lake bottoms.

d. In an effort to mimic natural processes the proposed cycle is for each lake to be drawn down every seven to ten years, which would mean rotating between lakes once a year. The rotating schedule will provide the benefit of supplying sportfish species somewhere in the area consistently and limit access problems to one area at a time.

2. Alternatives

a. Several drawdown alternatives will be identified and evaluated during the study.

b. Potential environmental resources and issues to be evaluated in the DEIS include project impacts on:

(1) Fish and wildlife resources.

(2) Wetlands resources.

(3) Wildlife habitat & values.

(4) Vegetation.

(5) Water quality.

(6) Surface & groundwater resources.

(7) Endangered or threatened species.

(8) Historical or archeological resources.

(9) Aesthetics.

(10) Nuisance and exotic plant species.

(11) Downstream effects.

(12) Air quality & noise.

(13) Soils.

(14) Navigation and recreation.

(15) Freeze protection.

(16) Local tropical fish farms.

c. Because of the magnitude and duration of this project the U.S. Army Corps of Engineers, the Florida Fish and Wildlife Conservation Commission and the South Florida Water Management District have determined that a DEIS should be prepared for the Project pursuant to the National Environmental Policy Act (NEPA).

3. Scoping

The scoping process as outlined by the Council on Environmental Quality will be followed to involve Federal, State, and local agencies; and other interested persons and organizations. A scoping letter will be sent to interested Federal, State, local agencies and interested parties requesting comments and concerns regarding issues to consider during the study. Responses to this letter will help identify potential environmental impacts to be evaluated in the DEIS. Additional comments are welcome and may be provided to the above address. Public meetings may be held in the future. Exact dates, times, and locations will be published in local papers.

4. Schedule

It is estimated that the DEIS will be available to the public by the spring of 2001.

Gregory D. Showalter,
Army Federal Register, Liaison Officer.

[FR Doc. 00-20005 Filed 8-7-00; 8:45 am]

BILLING CODE 3710-AJ-P